DEPARTMENT OF THE INTERIOR

National Park Service

[NPS-WASO-NAGPRA-14079; PPWOCRADN0-PCU00RP14.R50000]

Notice of Inventory Completion: U.S. Department of the Interior, Bureau of Land Management, Nevada State Office, Reno, NV

AGENCY: National Park Service, Interior.

ACTION: Notice.

SUMMARY: The U.S. Department of the Interior, Bureau of Land Management (BLM) Nevada State Office has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the BLM. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the BLM Nevada State Office at the address in this notice by October 30, 2013.

ADDRESSES: Mark Hall, Native American Coordinator, Bureau of Land Management, Winnemucca District Office, 5100 East Winnemucca Blvd., Winnemucca, NV 89445, telephone (775) 623-1529, email mehall@blm.gov.

SUPPLEMENTARY INFORMATION: Notice is here given in accordance with the Native American Graves Protection and Repatriation Act (NAGPRA), 25 U.S.C. 3003, of the completion of an inventory of human remains and associated funerary objects under the control of the BLM Nevada State Office, Reno, NV. The human remains and associated funerary objects were removed from Elephant Mountain Cave, in Humboldt County, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the BLM Nevada State Office professional staff in consultation with representatives of the Bridgeport Indian Colony (previously listed as the Bridgeport Paiute Indian Colony of California); Fort McDermitt Paiute and Shoshone Tribes of the Fort McDermitt Indian Reservation, Nevada and Oregon; Pit River Tribe, California (includes XL Ranch, Big Bend, Likely, Lookout, Montgomery Creek and Roaring Creek Rancherias); Pyramid Lake Paiute Tribe of the Pyramid Lake Reservation, Nevada; and Summit Lake Paiute Tribe of Nevada. The following tribes were invited to consult, but did not respond: Alturas Indian Rancheria, California; Big Pine Paiute Tribe of Owens Valley (previously listed as the Big Pine Band of Owens Valley Paiute Shoshone Indians of the Big Pine Reservation, California); Bishop Paiute Tribe (previously listed as the Paiute-Shoshone Indians of the Bishop Community of the Bishop Colony, California); Burns Paiute Tribe (previously listed as the Burns Paiute Tribe of the Burns Paiute Indian Colony of Oregon); Confederated Tribes of the Warm Springs Reservation of Oregon; Fort Bidwell Indian Community of the Fort Bidwell Reservation of California; Fort Independence Indian Community of Paiute Indians of Fort Independence Reservation, Califonia; Klamath Tribes; Lone Pine Paiute-Shoshone Tribe (previously listed as the Paiute-Shoshone Indians of the Lone Pine Community of the Lone Pine Reservation, California); Lovelock Paiute Tribe of the Lovelock Indian Colony, Nevada; Paiute-Shoshone Tribe of the Fallon Reservation and Colony, Nevada; Reno-Sparks Indian Colony, Nevada; Walker River Paiute Tribe of the Walker River Reservation, Nevada; and the Winnemucca Indian Colony of Nevada.

History and Description of the Remains

In the 1980s, human remains representing, at minimum, two individuals were illegally excavated from Elephant Mountain Cave in Humboldt County, NV. The human remains were recovered by State of Oregon law enforcement during the course of an investigation in 1995. Oregon law enforcement turned over the human remains, associated funerary objects, and other artifacts removed from the cave to the BLM Nevada State Office in 1999 and 2007. These materials were deposited in the Nevada State Museum by the BLM in 1999 and 2007. No historically known individuals were identified. The 22 associated funerary objects include 2 baskets, 4 nets/net fragments, 2 rattles or bracelets made of perforated artiodactyl hooves and sinew string, 7 moccasins, 5 bifaces, 1 jasper flake, and 1 shell pendant.

One set of human remains (NSM AHUR 6009) consists of a nearly complete skeleton of a child aged 6-8 years old. The sex of the individual could not be determined. The basket in which this individual was buried in dates to 2060 ± 60 years before present (bp). The other set of human remains (NSM AHUR 6010) consists of a nearly complete skeleton of a female, 9-12 years old. The basket in which this individual was buried dates to 2080 ± 60 years bp.

The human remains were determined to be Native American based on the geographical location, age, biological information, and the nature of the associated funerary objects, which relate to other similar archeological and anthropological evidence of Native Americans in the northern Great Basin and nearby areas.

Multiple lines of evidence—guided by tribal consultations—including geographic, oral tradition, archeological, genetic, and aboriginal land claims, demonstrate a shared group identity between these human remains and some of the modern-day tribes of the Northern Paiutes. In addition, final judgments of the Indian Claims Commission show that the land from which the Native American human remains were removed is the aboriginal land of some of the Northern Paiutes. Today, the culturally affiliated tribes of the Northern Paiutes are: the Alturas Indian Rancheria, California; Big Pine Paiute Tribe of Owens Valley (previously listed as the Big Pine Band of Owens Valley Paiute Shoshone Indians of the Big Pine Reservation, California); Bishop Paiute Tribe (previously listed as the Paiute-Shoshone Indians of the Bishop Community of the Bishop Colony, California); Bridgeport Indian Colony (previously listed as the Bridgeport Paiute Indian Colony of California); Burns Paiute Tribe (previously listed as the Burns Paiute Tribe of the Burns Paiute Indian Colony of Oregon); Confederated Tribes of the Warm Springs Reservation of Oregon; Fort Bidwell Indian Community of the Fort Bidwell Reservation of California; Fort Independence Indian Community of Paiute Indians of Fort Independence Reservation, California; Fort McDermitt Paiute and Shoshone Tribes of the Fort McDermitt Indian Reservation, Nevada and Oregon; Klamath Tribes; Lone Pine Paiute-Shoshone Tribe (previously listed as the Paiute-Shoshone Indians of the Lone Pine Community of the Lone Pine Reservation, California); Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Walker River Paiute Tribe of the Walker River Reservation, Nevada; and the Winnemucca Indian Colony of Nevada (hereafter referred to as “The Tribes”).

Determinations Made by the BLM Nevada State Office

Officials of the BLM Nevada State Office have determined that:

• Pursuant to 25 U.S.C. 3001(9), the human remains described in this notice represent the physical remains of two individuals of Native American ancestry.

• Pursuant to 25 U.S.C. 3001(3)(A), the 22 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian tribe or Native Hawaiian organization not identified in this notice that wish to request transfer of control of these human remains and associated funerary objects should submit a written request with information in support of the request to Mark Hall, Native American Coordinator, Bureau of Land Management, Winnemucca District Office, 5100 East Winnemucca Blvd., Winnemucca, NV 89445, telephone (775) 623-1529, email mehall@blm.gov, by October 30, 2013. After that date, if no additional requestors have come forward, transfer of control of the human remains and associated funerary objects to The Tribes may proceed.

The BLM Nevada State Office is responsible for notifying The Tribes that this notice has been published.

Dated: September 12, 2013.
David Tarler,
Acting Manager, National NAGPRA Program.

[FR Doc. 2013-23818 Filed 9-27-13; 8:45 am]

BILLING CODE 4312-50-P